FEDERAL COMMUNICATIONS COMMISSION

FCC To Hold Open Commission Meeting, Thursday, April 28, 2016

April 21, 2016.

The Federal Communications Commission will hold an Open Meeting on the subjects listed below on Thursday, April 28, 2016, which is scheduled to commence at 10:30 a.m. in Room TW-C305, at 445 12th Street SW., Washington, DC.

Item No. | Bureau | Subject
1 | CONSUMER & GOVERNMENTAL AFFAIRS | TITLE: Transition from TTY to Real-Time Text Technology (GN Docket No. 15-178). SUMMARY: The Commission will consider a Notice of Proposed Rulemaking that seeks comment on proposals to support real-time text communications over Internet Protocol communications networks, to improve the accessibility of these networks for consumers who are deaf, hard of hearing, deaf-blind, and speech disabled.
2 | WIRELINE COMPETITION | TITLE: Business Data Services in an Internet Protocol Environment; Investigation of Certain Price Cap Local Exchange Carrier Business Data Services Tariff Pricing Plans (WC Docket No. 15-247); Special Access for Price Cap Local Exchange Carriers (WC Docket No. 05-25); and AT&T Corporation Petition for Rulemaking to Reform Regulations of Incumbent Local Exchange Carrier Rates for Interstate Special Access Services (RM-10593). SUMMARY: The Commission will consider a Tariff Investigation Order and a Further Notice of Proposed Rulemaking proposing a new regulatory framework for the provision of business data services.
3 | WIRELESS TELECOMMUNICATIONS AND OFFICE OF ENGINEERING & TECHNOLOGY | TITLE: Amendment of the Commission's Rules with Regard to Commercial Operations in the 3550-3650 MHz Band (GN Docket No. 12-354). SUMMARY: The Commission will consider an Order on Reconsideration and a Second Report and Order that will finalize rules for the innovative spectrum sharing regime it created for making 150 megahertz available in the 3.5 GHz band.
* * * * * * *
Consent Agenda
The Commission will consider the following subjects listed below as a consent agenda and these items will not be presented individually:
1 | MEDIA | TITLE: Wilfredo G. Blanco-Pi, Application for a New AM Booster Station at Guayama, Puerto Rico. SUMMARY: The Commission will consider a Memorandum Opinion and Order concerning an Application for Review filed by Wilfredo G. Blanco-Pi seeking review of a Media Bureau letter decision.
2 | MEDIA | TITLE: Edward A. Schober, Application for Construction Permit for New FM Translator Station W250BA, at Manahawkin, New Jersey. SUMMARY: The Commission will consider a Memorandum Opinion and Order concerning an Application for Review filed by Edward A. Schober seeking review of an Audio Division, Media Bureau decision.
3 | MEDIA | TITLE: Powell Meredith Communications Company, Application for a New AM Broadcast Station at Paradise, Nevada. SUMMARY: The Commission will consider a Memorandum Opinion and Order concerning an Application for Review filed by Powell Meredith Communications Company seeking review of a Media Bureau letter decision.
4 | MEDIA | TITLE: WKMJ Radio Live The People Station, Inc., Application for a Construction Permit for a new LPFM Station at Pinellas Park, Florida. SUMMARY: The Commission will consider a Memorandum Opinion and Order concerning a Petition for Reconsideration filed by WKMJ Radio Live the People Station, Inc., seeking review of the Commission's Memorandum Opinion and Order.
5 | MEDIA | TITLE: US Pro Descubierta, Application for a New LPFM Station at Seffner, Florida. SUMMARY: The Commission will consider a Memorandum Opinion and Order concerning an Application for Review filed by U.S. Pro Descubierta seeking review of a Media Bureau letter decision.
6 | ENFORCEMENT | TITLE: Enforcement Bureau Action. SUMMARY: The Commission will consider whether to take an enforcement action.
7 | ENFORCEMENT | TITLE: Enforcement Bureau Action. SUMMARY: The Commission will consider whether to take an enforcement action.
8 | ENFORCEMENT | TITLE: Enforcement Bureau Action. SUMMARY: The Commission will consider whether to take an enforcement action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-09929 Filed 4-27-16; 8:45 am]

BILLING CODE 6712-01-P